ENVIRONMENTAL PROTECTION AGENCY

[ER-FRL-6647-7]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167. An explanation of the ratings assigned to draft environmental impact statements (EISs) was published in FR dated April 04, 2003 (68 FR 16511).

Draft EISs

ERP No. D-AFS-H65015-NE Rating LO, Pine Ridge Geographic Area Rangeland Allotment Management Planning, To Permit Livestock Grazing on 34 Allotments, Nebraska National Forest, Pine Ridge Ranger District, Dawes and Sioux Counties, NE.

Summary: EPA recommended that protection of aquatic resources remain a priority and that mitigation contingencies be explored should there be impacts to paleoentological resources during soil disturbance activities.

ERP No. D-AFS-L65442-OR Rating EC2, Baked Apple Fire Salvage Project, Salvaging Fire Killed Trees in the Matrix Portion of the 2002 Apple Fire, Umpqua National Forest, Umpqua Ranger District, Douglas County, OR.

Summary: EPA expressed environmental concerns with permitting timber harvesting in riparian reserves resulting in potential adverse impacts to the aquatic system and Northern Spotted Owl. The final EIS should include mitigation for timber harvest impacts and post-logging road densities to improve the condition of the sub-watershed.

Summary: ERP No. D-BLM-K08028-CA Rating EC2, Desert Southwest Transmission Line Project, New Substation/Switching Station, Construction, Operation and Maintenance, Right-of-Way Grant and US Army COE Section 10 and 404 Permits Issuance, North Palm Springs and Blythe, CA.

Summary: EPA expressed environmental concerns with potential impacts to air quality and waters of the U.S. The DEIS indicates that the project does not conform with the State implementation Plan. EPA recommends the FEIS include a conformity determination, and additional information on the project's potential impacts to the waters of the U.S. and cultural resources, and mitigation measures for these impacts.

ERP No. D-COE-E32082-AL Rating EC2, Arlington and Garrows Bend Channels and Adjacent Area Restoration and Maintenance Dredging, City of Mobile, Mobile County, AL.

Summary: EPA expressed environmental concerns regarding the proposal, with a special emphasis on the impacts to wetlands and water quality. EPA raised concerns over the proposal to convert shallow water habitat and/or emergent marsh to uplands as the preferred means of isolating contaminated sediments. EPA requested further information regarding impacts and proposed mitigation measures.

ERP No. D-COE-E39063-AL Rating EC2, Choctaw Point Terminal Project, Construction and Operation of a Container Handling Facility, Department of the Army (DA) Permit Issuance, Mobile County, AL.

Summary: EPA expressed environmental concerns regarding the proposed project, including potential impacts to wetlands and water quality. EPA raised questions regarding the ability of mitigation measures to offset environmental impacts, and requested additional information.

ERP No. D-DOI-J39030-UT Rating EC1, Lower Duchesne River Wetlands Mitigation Project (LDWP), To Implement Restoration Measures in the Lower Duchesne River Area, Strawberry Aqueduct and Collection System (SACS) on portions of the, Strawberry Reservoir, Ute Indian Tribe, NPDES and U.S. Army COE Section 404 Permits, Duchesne, Utah, Uintah Counties, UT.

Summary: EPA expressed environmental concerns with potential adverse impacts to wetlands and water quality. EPA suggested that the final EIS include in-kind mitigation to offset the previous habitat losses.

ERP No. D-FHW-F40418-IL Rating LO, Macomb Area Study, Construction from U.S. Route 67 (FAP-310) and Illinois Route 336 (FAP-315), City of Macomb, McDonough County, IL.

Summary: EPA lacks objections regarding the proposed project. However, EPA does recommend that additional clarification regarding storm water management, use of native vegetation, and the selection criteria for wildlife underpass locations be included in the FEIS.

ERP No. D-FHW-H40180-00 Rating EC2, Interstate 74 Quad Cities Corridor Study, Improvements to I-74 between 23rd Avenue in Moline, Il and 53rd Street in Davenport, IA, NPDES, Rivers and Harbors Act Section 9 and US Army COE Section 404 Permits, Scott County, IA and Rock Island County, IL.

Summary: EPA expressed environmental concerns with the proposed project relating to the level of information provided on the final disposition of the existing bridge. EPA also recommended that the FEIS include the mitigation strategy for impacted mussel species and recommends that the mussel relocation site be determined with due regard for cumulative impacts.

ERP No. D-FRC-L05231-AK Rating EC2, Glacier Bay National Park and Preserve, Falls Creek Hydroelectric Project (FERC. NO. 11659) and Land Exchange Project, Issuance of License and Land Exchange, Kahtaheena River (Falls Creek) near Gustavus in Southeastern, AK.

Summary: EPA expressed environmental concerns with the lack of operation, mitigation and monitoring plans that are proposed to be developed after the issuance of the license for the project. EPA recommended that these plans be developed and included in the FEIS and that the developmental analysis and recommendations be made consistent with the rest of the EIS. EPA also recommended that additional information be included in the EIS related to the need for power, continued use of diesel generators and access to the project.

ERP No. DS-FTA-D54041-VA Rating LO, Dulles Corridor Rapid Transit Project, Additional Information to Assist Decision-Makers, Area Residents and the Business Community in the Evaluation of High Quality and High-Capacity Transit Service in the Dulles Corridor, West Falls Church Metrorail Station in Fairfax County to the vicinity of Route 772 in Loudoun County, VA.

Summary: EPA lacks objections to the proposed project. EPA encourages the development of the full Metrorail alternative which is expected to have the greatest impact on reducing congestion and air pollution.

Final EISs

ERP No. F-HHS-D81034-MD Integrated Research Facility (IRF) at Fort Detrick Construction and Operation, Adjacent to Existing U.S. Army Medical Research Institute of Infectious Diseases Facilities, City of Frederick, Frederick County, MD.

Summary: EPA has determined that the National Institutes of Health has adequately addressed its comments within the FEIS.

Dated: January 20, 2004.
B. Katherine Biggs,
Associate Director, NEPA Compliance Division, Office of Federal Activities.

[FR Doc. 04-1484 Filed 1-22-04; 8:45 am]

BILLING CODE 6560-50-P